DEPARTMENT OF AGRICULTURE

Forest Service

Notice of New Recreation Fee Site; Federal Lands Enhancement Act (Title VIII, Pub. L. 108-447)

AGENCY: National Forests in North Carolina, USDA Forest Service.

ACTION: Notice of New Recreation Fee Site.

SUMMARY: The National Forests in North Carolina will begin charging a special recreation permit fee for reserved use of picnic shelters on several sites on the National Forests in North Carolina. Members of the public have requested the ability to reserve use of a picnic shelter in advance of the day of proposed shelter use. There will be no charging for using a picnic shelter as long as no reservation is made. Reservations will be posted on site at least 24 hours in advance of the reservation time. The shelters are located at the Murray Branch Day Use Area on the Appalachian Ranger District, the Cheoah Point Day Use Area on the Cheoah Ranger District, the Old Fort Picnic Area and Mortimer Picnic Area on the Grandfather Ranger District, the Sycamore Flats Picnic Area and Pink Beds Picnic Area on the Pisgah Ranger District, the Cherokee Lake Picnic Area, Jackrabbit Day Use Area and Hanging Dog Day Use Area on the Tusquitee Ranger District, and at Kings Mountain Point Day Use Area on the Uwharrie Ranger District. The cost for reserved use of the shelters will vary between $25-$30 for a half day and $40-$50 for a whole day. The higher use fee will be charged for the larger capacity shelter at Kings Mountain Point Day Use Area. In addition, the National Recreation Reservation Service charges a $9 reservation service fee. Fee revenue will support operations and maintenance of the shelters and future shelter site improvements.

DATES: The fee is scheduled for implementation in May of 2007.

FOR FURTHER INFORMATION CONTACT: David H. Wright, Recreation Fee Coordinator, 828-257-4256, National Forests in North Carolina, PO Box 2750, Asheville, NC 28802.

SUPPLEMENTARY INFORMATION: The Federal Recreation Lands Enhancement Act (Title VIII, Pub. L. 108-447) directed the Secretary of Agriculture to publish advance notice in the Federal Register whenever new recreation fee areas are established. This new fee will be reviewed by a Recreation Resource Advisory Committee prior to a final decision and implementation. The National Forests in North Carolina presently has two recreation sites permitted to concession operators who charge a shelter use fee of $25 per half day for a two-table shelter to $35 per half day for a three-table shelter. Most sites have paved parking. Hanging Dog, Cherokee Lake, Mortimer and Murray Branch have designated gravel parking. In addition to picnic shelters with tables, all sites have picnic grills, flush or vault toilets on site, water on site or nearby, trash receptacles and information boards. People wishing to reserve a picnic shelter will need to do so through the National Recreation Reservation Service at http://www.reserveusa.com or by calling 1-877-444-6777.

Dated: November 3, 2006.
Marisue Hilliard,
National Forests in North Carolina Supervisor.

[FR Doc. 06-9477 Filed 11-30-06; 8:45am]

BILLING CODE 3410-52-M